DEPARTMENT OF COMMERCE

National Oceanic and Atmospheric Administration

[RTID 0648-XA850]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Law Enforcement Committee; Habitat and Ecosystem-Based Management Committee, Mackerel Cobia Committee, Snapper Grouper Committee; Dolphin Wahoo Committee; Southeast Data, Assessment and Review (SEDAR) Committee (partially Closed Session); and Executive Committee. The meeting week will also include a formal public comment session and a meeting of the Full Council. Due to public health concerns associated with COVID-19 and current travel restrictions the meeting will be held via webinar.

DATES: The Council meeting will be held from 12:30 p.m. on Monday, March 1, 2021 until 12 p.m. on Friday, March 5, 2021.

ADDRESSES:

Meeting address: The meeting will be held via webinar. Webinar registration is required. Details are included in SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for each meeting day will also be available from the Council's website.

Public comment: Written comments may be directed to John Carmichael, Executive Director, South Atlantic Fishery Management Council (see Council address) or electronically via the Council's website at http://safmc.net/safmc-meetings/council-meetings/. Comments received by close of business the Monday before the meeting (2/22/21) will be compiled, posted to the website as part of the meeting materials, and included in the administrative record; please use the Council's online form available from the website. Written comments submitted after the Monday before the meeting must use the Council's online form available from the website. Comments will automatically be posted to the website and available for Council consideration. Comments received prior to 9 a.m. on Thursday, March 4, 2021 will be a part of the meeting administrative record.

The items of discussion in the individual meeting agendas are as follows:

Council Session I, Monday, March 1, 2021, 12:30 p.m. until 3:30 p.m.

The Council will receive an update on the Acceptable Biological Catch (ABC) Control Rule Amendment and review an Exempted Fishing Permit (EFP) request and provide recommendations. The Council will also receive a presentation on the Regional Electronic Technologies Plan: 2020-2024 from NOAA Fisheries and receive a presentation on the Kitty Hawk Offshore Wind Project.

Law Enforcement Committee, Monday, March 1, 2021, 3:30 p.m. until 4:30 p.m.

The Committee will receive a report from the Law Enforcement Advisory Panel (AP), review the structure of the Law Enforcement AP, and provide recommendations.

Habitat Protection and Ecosystem-Based Management Committee, Tuesday, March 2, 2021, 8:30 a.m. until 10 a.m.

The Committee will review Amendment 10 to the Coral Fishery Management Plan (FMP) addressing modifications to area closures for the deepwater shrimp fishery and is scheduled to approve for public hearings. The Committee will also receive updates on the Fishery Ecosystem Plan (FEP) II Roadmap and the Habitat and Ecosystem Blueprint, and approve agenda items for the next meeting of the Habitat Protection and Ecosystem-Based Management AP.

Mackerel Cobia Committee, Tuesday, March 2, 2021, 10 a.m. until 12 p.m.

The Committee will review the Coastal Migratory Pelagic (CMP) Framework Amendment 10 addressing management measures for Atlantic king mackerel and receive an update on CMP Amendment 32 addressing management measures to end overfishing for Gulf of Mexico cobia. The Committee will also review a white paper on a possible joint Spanish Mackerel AP with the Atlantic States Marine Fisheries Commission and approve agenda items for the next meeting of the Mackerel Cobia Advisory Panel.

Snapper Grouper Committee, Tuesday, March 2, 2021, 1:30 p.m. until 5:30 p.m. and Wednesday, March 3, 2021 from 8:30 a.m. until 10 a.m.

The Committee will receive a fishery overview and presentation on the recent stock assessment for snowy grouper, review Amendment 48 to the Snapper Grouper FMP addressing Wreckfish ITQ Modernization, and review public scoping comments and analyses for Amendment 50 to the Snapper Grouper FMP pertaining to measures to end overfishing and revise the rebuilding plan for red porgy. The Committee will review Amendment 49 to the Snapper Grouper FMP addressing catch levels and management measures for greater amberjack and is scheduled to approve the amendment for scoping.

The Committee will also receive updates on regional research projects on greater amberjack and red snapper, an update from NOAA Fisheries on red snapper recreational landings and status of the 2021 red snapper season, and approve agenda items for the next meeting of the Snapper Grouper AP.

Dolphin Wahoo Committee, Wednesday, March 3, 2021, 10 a.m. until 12 p.m. and 1:30 p.m. until 3:45 p.m.

The Committee will review public hearing comments as well as actions and alternatives for Amendment 10 to the Dolphin Wahoo FMP with actions addressing revisions to recreational data and catch level recommendations, modifications to recreational accountability measures, measures to allow properly permitted commercial vessels with trap, pot or buoy gear on board to possess commercial quantities of dolphin and wahoo, remove the Operator Card requirement, reduce the recreational vessel limit for dolphin, reduce the recreational bag limit and establish a recreational vessel limit for wahoo, and allow filleting of dolphin at sea on board charter or headboat vessels in waters north of the Virginia/North Carolina border. The Committee will also review the updated goals and objectives of the Dolphin Wahoo FMP and provide recommendations for timing of the next Dolphin Wahoo AP meeting.

Formal Public Comment, Wednesday, March 3, 2021, 4 p.m..—Public comment will be accepted via webinar on all items on the Council meeting agenda. Highlighted items: Public scoping comments will be accepted during this time for Amendment 48 to the Snapper Grouper FMP (Wreckfish ITQ Modernization) and Framework Amendment 10 to the Coastal Migratory Pelagics FMP (king mackerel). Additionally, the Council is scheduled to approve Amendment 49 to the Snapper Grouper FMP (greater amberjack) for public scoping and Amendment 10 to the Coral FMP (deepwater shrimp area closures) for public hearings. Hearings for Snapper Grouper Amendment 49 and Coral Amendment 10 will be held at later dates. The Council Chair will determine the amount of time provided to each commenter based on the number of individuals wishing to comment.

SEDAR Committee, Thursday, March 4, 2021, 8:30 a.m. until 10:30 a.m. (Partially Closed Session)

The Committee will make appointments for the SEDAR 79 stock assessment for mutton snapper during Closed Session. In Open Session, the Committee will receive an update on the SEDAR 76 stock assessment for South Atlantic black sea bass.

Executive Committee, Thursday, March 4, 2021, 10:30 a.m. until 12 p.m.

The Committee will review updates to the Council's Advisory Panel Policy, a proposed Council Symposium Series addressing various topics, updates to the Council's Handbook and the Council's 2021 Workplan.

Council Session II, Thursday, March 4, 2021, 1:30 p.m. until 5 p.m. and Friday, March 5, 2021 from 8:30 a.m. until 12 p.m.

The Council will receive a report from the Executive Director, staff updates on development of the Council's Allocation Tool to determine sector allocations, Climate Change Scenario Planning and the Council's Citizen Science Program. A demonstration of the new Fish Rules mobile app for commercial regulations will be provided.

The Council will receive a report from the Council's Recreational Reporting Working Group.

NOAA Fisheries Southeast Fisheries Science Center staff will provide an update on the pandemic's impacts on sampling and monitoring and a report on the status of commercial electronic logbooks. NOAA Fisheries Southeast Regional Office staff will provide an update on the status of For-Hire Electronic Reporting and the status of their evaluation of bycatch reporting efforts in the South Atlantic. The Council will also receive a Protected Resources report.

The Council will receive reports from the following committees: Law Enforcement; Habitat Protection and Ecosystem-Based Management; Snapper Grouper; Dolphin Wahoo; Mackerel Cobia; SEDAR; and Executive.

The Council will receive agency and liaison reports, discuss other business and upcoming meetings, and take action as necessary.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting.

Note: The times and sequence specified in this agenda are subject to change.

(Authority: 16 U.S.C. 1801 et seq.)

Dated: January 29, 2021.
Rey Israel Marquez,
Acting Deputy Director, Office of Sustainable Fisheries, National Marine Fisheries Service.

[FR Doc. 2021-02247 Filed 2-2-21; 8:45 am]

BILLING CODE 3510-22-P